DEPARTMENT OF HOMELAND SECURITY

Coast Guard

[USCG-2008-1149]

Houston/Galveston Navigation Safety Advisory Committee Vacancies

AGENCY: Coast Guard, DHS.

ACTION: Request for applications.

SUMMARY: The U.S. Coast Guard seeks applications for membership on the Houston/Galveston Navigation Safety Advisory Committee (HOGANSAC). This committee advises and makes recommendations to the Coast Guard on matters relating to the safe navigation of vessels to and from the Ports of Galveston, Houston, and Texas City, and throughout Galveston Bay, Texas.

DATES: Completed application forms should reach us on or before February 14, 2009.

ADDRESSES: You may request an application form by writing to Commander (spw), Designated Federal Officer (DFO) of HOGANSAC, USCG Sector Houston-Galveston, 9640 Clinton Drive, Houston, TX 77029; by calling LT Sean Hughes at (713) 678-9001; by submitting a faxed request to 713-671-5156; or by visiting HOGANSAC's Web site http://www.hogansac.org. Send your completed application to the DFO at the street address above.

FOR FURTHER INFORMATION CONTACT: CDR Hal R. Pitts, Executive Secretary of HOGANSAC at (713) 671-5164 or LT Sean Hughes, Assistant to the Executive Secretary of HOGANSAC at (713) 678-9001.

SUPPLEMENTARY INFORMATION: HOGANSAC is a Federal Advisory Committee subject to the provisions of 5 U.S.C. App. 2. This committee provides local expertise to the Secretary of Homeland Security and the Coast Guard on such matters as communications, surveillance, traffic control, anchorages, aids to navigation, and other related topics dealing with navigation safety in the Houston/Galveston area. The committee meets at least three times a year at various locations in the Houston/Galveston area. It may also meet for extraordinary purposes.

We will consider applications for nineteen (19) positions that expire or become vacant in September 2009. To be eligible, you should have experience and particular expertise and knowledge regarding the transportation, equipment, and techniques that are used to ship cargo and to navigate vessels in the inshore and the offshore waters of the Gulf of Mexico. Committee members represent a wide range of constituencies. There are twelve membership categories: (1) Two members who are employed by the Port of Houston Authority or have been selected by that entity to represent them; (2) two members who are employed by the Port of Galveston or the Texas City Port Complex or have been selected by those entities to represent them; (3) two members from organizations that represent shipowners, stevedores, shipyards, or shipping organizations domiciled in the State of Texas; (4) two members representing organizations that operate tugs or barges that utilize the port facilities at Galveston, Houston, and Texas City; (5) two members representing shipping companies that transport cargo from the ports of Galveston and Houston on liners, break bulk, or tramp steamer vessels; (6) two members representing those who pilot or command vessels that utilize the ports of Galveston, Houston and Texas City; (7) two at-large members who may represent a particular interest group but who use the port facilities at Galveston, Houston or Texas City; (8) one member representing labor organizations involved in the loading and unloading of cargo at the ports of Galveston or Houston; (9) one member representing licensed merchant mariners other than pilots, who perform shipboard duties on vessels which utilize the port facilities of Galveston, Houston or Texas City; (10) one member representing environmental interests; (11) one member representing the general public and (12) one member representing recreational boaters. Each member serves for a term of two (2) years and may serve two (2) consecutive terms. Members serve voluntarily, without compensation from the Federal Government for salary, travel, or per diem.

In support of the policy of the Coast Guard on gender and ethnic diversity, we encourage qualified women and members of minority groups to apply.

If you are selected as a non-representative member, or as a member who represents the general public, you will be appointed and serve as a special Government employee (SGE) as defined in section 202(a) of title 18, United States Code. As a candidate for appointment as a SGE, applicants are required to complete a Confidential Financial Disclosure Report (OGE Form 450). A completed OGE Form 450 is not releasable to the public except under an order issued by a Federal court or as otherwise provided under the Privacy Act (5 U.S.C. 552a). Only the Designated Agency Ethics Official or the DAEO's designate may release a Confidential Financial Disclosure Report.

If you are interested in applying to become a member of the Committee, send a completed application to Commander (spw) Designated Federal Officer (DFO) of HOGANSAC, USCG Sector Houston-Galveston, 9640 Clinton Drive, Houston, TX 77029. Send the application in time for it to be received by the DFO on or before February 14, 2009.

Dated: December 3, 2008.
Joel R. Whitehead,
Rear Admiral, U.S. Coast Guard, Commander, Eighth Coast Guard District.

[FR Doc. E8-29727 Filed 12-15-08; 8:45 am]

BILLING CODE 4910-15-P